DEPARTMENT OF LABOR

Employment and Training Administration

[TA-W-55,320]

C.M. Holtzinger Fruit Company Prosser, Washington; Notice of Termination of Investigation

Pursuant to Section 221 of the Trade Act of 1974, an investigation was initiated on July 26, 2004 in response to a petition filed by a company official on behalf of workers at C.M. Holtzinger Fruit Company, Prosser, Washington.

The petitioner has requested that the petition be withdrawn. Consequently, further investigation in this case would serve no purpose, and the investigation has been terminated.

Signed in Washington, DC, this 20th day of August 2004.
Linda G. Poole,
Certifying Officer, Division of Trade Adjustment Assistance.

[FR Doc. 04-19679 Filed 8-27-04; 8:45 am]

BILLING CODE 4510-30-P